ENVIRONMENTAL PROTECTION AGENCY

40 CFR Part 52

[EPA-R09-OAR-2009-0470; FRL-9112-8]

Approval and Promulgation of Air Quality Implementation Plans; California; Motor Vehicle Inspection and Maintenance Program

AGENCY: Environmental Protection Agency (EPA).

ACTION: Final rule.

SUMMARY: EPA is approving state implementation plan (SIP) revisions submitted by the State of California on June 5, 2009 and October 28, 2009 relating to the State's basic and enhanced vehicle inspection and maintenance (I/M) program. The effect of this action is to make the revisions federally enforceable as part of the California SIP.

DATES: This final rule is effective August 2, 2010.

ADDRESSES: EPA has established a docket for this action under EPA-R09-OAR-2009-0470. The index to the docket for this action is available electronically at http://www.regulations.gov and in hard copy at EPA Region IX, 75 Hawthorne Street, San Francisco, California. While all documents in the docket are listed in the index, some information may be publicly available only at the hard copy location (e.g., copyrighted material) and some may not be available in either location [(e.g., confidential business information (CBI))]. To inspect the hard copy materials, please schedule an appointment during normal business hours with the contact listed in the FOR FURTHER INFORMATION CONTACT section. Although listed in the index, some information is not publicly available, i.e., CBI or other information the disclosure of which is restricted by statute. Certain other material, such as copyrighted material, is not placed on the Internet and will be publicly available only in hard copy form.

FOR FURTHER INFORMATION CONTACT: Jeffrey Buss, EPA Region IX, (415) 947-4152, buss.jeffrey@epa.gov.

SUPPLEMENTARY INFORMATION: Throughout this document, the terms “we”, “us”, and “our” refer to EPA.

I. Summary of the Proposed Actions

On August 19, 2009 (74 FR 41818), EPA proposed to approve a SIP revision submitted by the California Air Resources Board (CARB) on June 5, 2009 relating to the State's basic and enhanced vehicle I/M program (“2009 I/M Revision”) contingent upon the State's submittal of revisions to the enhanced program performance standard evaluations to address: (1) A different attainment year for the Western Mojave Desert 8-hour ozone nonattainment area, and (2) California's base-year program performance for the six areas subject to the enhanced I/M program.

More specifically and with the exception of the enhanced program performance standard evaluations, we concluded that the 2009 I/M Revision met the procedural requirements for adoption and submittal of SIP revisions, and the substantive requirements for I/M programs under the Clean Air Act (CAA or “Act”) and our regulations. In addition, we concluded that the 2009 I/M Revision would not interfere with any applicable requirement concerning attainment of the national ambient air quality standards (NAAQSs) or any other applicable requirement of the Act. In so doing, we took into consideration changes in EPA's I/M regulations since our previous approval of the California I/M program, changes in the California I/M programs since our previous approval, initial area designations for the 1997 8-hour ozone standards, and the requirements of the implementation rules for the 1997 8-hour ozone standard. For more background on California's I/M program, a more detailed description of the changes in EPA's I/M regulations since our previous approval of the program and of the 2009 I/M Revision itself, and a more detailed explanation of our evaluation of the 2009 I/M Revision and of our rationale for our proposed action, please see the August 19, 2009 proposed rule and related Technical Support Document.

In our August 19, 2009 proposed rule, we indicated that our proposed approval of the 2009 I/M Revision was contingent upon the State's submittal of revisions to the enhanced program performance standard evaluations to address certain issues as described above. On October 28, 2009, CARB submitted revisions to the enhanced program performance standard evaluations to address these issues.

On November 18, 2009 (74 FR 59496), EPA published a Notice of Data Availability (NODA) and request for comment on these revisions to the enhanced program performance standard evaluations. In that notice we stated that we had reviewed the additional modeling information submitted by CARB on October 28, 2009 and believed that the analyses support our conclusions that the California program: (1) Achieved greater percent emissions reductions (relative to the no I/M scenario) for volatile organic compounds (VOC) and oxides of nitrogen (NOX) in each of the six areas than the EPA model enhanced I/M program in 2002, and (2) would achieve greater percent emissions reductions (relative to the no I/M scenario) for VOC and NOX in each of the six areas in the year before the attainment year than would the EPA model enhanced I/M program in 2002. Please see our November 18, 2009 NODA for a more detailed discussion of CARB's October 28, 2009 submittal and our evaluation of it.

II. EPA's Response to Comments

Our August 19, 2009 proposed rule provided for a 30-day comment period, and our November 18, 2009 NODA provided for a 14-day comment period. We did not receive any public comments in response to the proposed rule or the NODA.

III. Final Action

Under section 110(k)(3) of the Clean Air Act, EPA is approving CARB's 2009 I/M Revision, as submitted by CARB on June 5, 2009, and revised by CARB on October 28, 2009, as a revision to the California SIP. For the reasons set forth in this document and in the August 19, 2009 proposed rule, we conclude that CARB's I/M SIP revisions meet the requirements of CAA sections 182(a)(2)(B) and 182(c)(3) in the geographic areas where the statutory requirements apply, and applicable EPA I/M regulations set forth in 40 CFR part 51, subpart S. The updated elements of the California I/M program that we are approving include the following:

(1) Discussion of each of the required design elements of the I/M program;

(2) Description of the current geographic coverage of the program, including updated maps and list of program requirements by zip code;

(3) I/M-related statutes and regulations;

(4) High enhanced I/M performance standard evaluations for the urbanized areas within six California ozone nonattainment areas (South Coast Air Basin, San Joaquin Valley, Sacramento Metro, Coachella Valley, Ventura County, and Western Mojave Desert), as meeting the requirements of CAA section 182(c)(3);

(5) Basic I/M performance standard evaluation for the urbanized area within the San Francisco Bay Area ozone nonattainment area under section 182(a)(2)(B); and

(6) Emission analyzer specifications and test procedures, including BAR-97 specifications.

Lastly, we are codifying today's approval by adding new paragraphs to 40 CFR 52.220 and 40 CFR 52.241, and we are deleting regulatory language [see 40 CFR 52.241(a)] that codified EPA's 1997 interim approval of California's enhanced I/M program because today's final approval of the revised I/M program makes that language obsolete.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by August 30, 2010. Filing a petition for reconsideration by the Administrator of this final rule does not affect the finality of this action for purposes of judicial review nor does it extend the time within which a petition for judicial review may be filed, and shall not postpone the effectiveness of such rule or action. This action may not be challenged later in proceedings to enforce its requirements (see section 307(b)(2)).

List of Subjects in 40 CFR Part 52

Air pollution control, Carbon monoxide, Incorporation by reference, Intergovernmental relations, Nitrogen dioxide, Ozone, Reporting and recordkeeping requirements, and Volatile organic compounds.

Dated: December 10, 2009.
Laura Yoshii,
Acting Regional Administrator, Region IX.

Editorial Note: This document was received in the Office of the Federal Register on June 28, 2010.

Part 52, chapter I, title 40 of the Code of Federal Regulations is amended as follows:

PART 52—[AMENDED]

1. The authority citation for part 52 continues to read as follows:

Authority: 42 U.S.C. 7401 et seq.

2. Section 52.220 is amended by adding paragraphs (c)(234)(i)(A)(2) and (c)(234)(i)(A)(3), and by adding paragraphs (c)(372) and (c)(373) to read as follows:

§ 52.220 Identification of plan.

* * * * *

(c) * * *

(234) * * *

(i) * * *

(A) * * *

(2) Previously approved on January 8, 1997, in paragraph (234)(i)(A)(1)(i) of this section, and now deleted without replacement: Health and Safety Code: Division 26, Part 5, Chapter 5 (Motor Vehicle Inspection Program), Article 1, sections 44001.6, 44001.7, 44003.1, 44006; Article 2, sections 44015.3, 44022, 44023; Article 3, section 44031; Article 8, sections 44081.5, 44082, 44083.

(3) Previously approved on January 8, 1997, in paragraph (234)(i)(A)(1)(iv) of this section, and now deleted without replacement: Title 16, California Code of Regulations, Division 33, Bureau of Automotive Repair, Article 5.5, Motor Vehicle Inspection Program, sections 3340.16.6, 3340.42.1.

* * * * *

(372) The following revisions to the California Motor Vehicle Inspection and Maintenance Program were submitted on June 5, 2009 (2009 I/M Revision), by the Governor's Designee.

(i) Incorporation by reference.

(A) California Air Resources Board.

(1) California Code of Regulations, Title 16 (Professional and Vocational Regulations), Division 33 (Bureau of Automotive Repair), Chapter 1 (Automotive Repair Dealers and Official Stations and Adjusters), Article 1 (General Provisions), sections 3303.1, “Public Access to License, Administrative Action, and Complaint Information” (operative July 20, 2007); 3303.2, “Review of Applications for Licensure, Registration and Certification; Processing Time” (operative July 9, 2003); Article 5.5 (Motor Vehicle Inspection Program), sections 3340.1, “Definitions” (operative June 29, 2006); 3340.7, “Fee for Inspection at State-Contracted Test-Only Facility” (operative August 17, 1995); 3340.9, “Repair Assistance Program” (operative October 30, 2000); 3340.10, “Licensing of Smog Check Stations” (operative July 26, 1996); 3340.15, “General Requirements for Smog Check Stations” (operative July 9, 2003); 3340.16, “Test-Only Station Requirements” (operative August 1, 2007); 3340.16.5, “Test-and-Repair Station Requirements” (operative June 29, 2006); 3340.17, “Test Equipment, Electronic Transmission, Maintenance and Calibration Requirements” (operative June 29, 2006); 3340.18, “Certification of Emissions Inspection System Calibration Gases and Blenders of Gases” (operative July 9, 2003); 3340.22.1, “Smog Check Station Service Signs” (operative February 1, 2001); 3340.22.2, “Smog Check Station Repair Cost Limit Sign” (operative February 1, 2001); 3340.23, “Licensed Smog Check Station That Ceases Operating As a Licensed Station” (operative June 23, 1995); 3340.24, “Suspension, Revocation, and Reinstatement of Licenses” (operative June 23, 1995); 3340.28, “Licenses and Qualifications for Technicians” (operative January 17, 2009); 3340.29, “Licensing of Technicians” (operative January 17, 2009); 3340.30, “General Requirements for Licensed Technicians” (operative June 23, 1995); 3340.31, “Retraining of Licensed Technicians” (operative June 23, 1995); 3340.32, “Standards for the Certification of Institutions Providing Retraining to Licensed Technicians or Prerequisite Training to Those Seeking to Become Licensed Technicians” (operative July 9, 2003); 3340.32.1, “Standards for the Decertification and Recertification of Institutions Providing Retraining to Licensed Technicians or Prerequisite Training to Those Seeking to Become Licensed Technicians” (operative June 23, 1995); 3340.33, “Standards for the Certification of Basic and Advanced Instructors Providing Retraining to Intern, Basic Area, and Advanced Emission Specialist Licensed Technicians or Prerequisite Training to Those Seeking to Become Intern, Basic Area, or Advanced Emission Specialist Licensed Technicians” (operative February 1, 2001); 3340.33.1, “Standards for the Decertification and Recertification of Instructors Providing Retraining to Licensed Technicians or Prerequisite Training to Those Seeking to Become Licensed Technicians” (operative June 23, 1995); 3340.35, “A Certificate of Compliance, Noncompliance, Repair Cost Waiver or an Economic Hardship Extension” (operative June 25, 1998); 3340.35.1, “A Certificate of Compliance, Noncompliance, Repair Cost Waiver or an Economic Hardship Extension Fee Calculation” (operative December 2, 1998); 3340.36, “Clearing Enforcement Forms” (operative July 26, 1996); 3340.37, “Installation of Oxides of Nitrogen (NOx) Devices)” (operative July 26, 1996); 3340.41, “Inspection, Test, and Repair Requirements” (operative June 29, 2006); 3340.42, “Mandatory Smog Check Inspection and Test Procedures, and Emissions Standards” (operative January 11, 2008); 3340.50, “Fleet Facility Requirements” (operative February 15, 2002); 3340.50.3, “Fleet Records and Reporting Requirements” (operative June 23, 1995); 3340.50.4, “Fleet Certificates” (operative June 25, 1998); 3340.50.5 “Suspension or Rescission of Fleet Facility License” (operative June 23, 1995); Article 10 (Gold Shield Program), sections 3392.1, “Gold Shield Program (GSP)” (operative May 28, 2003); 3392.2, “Responsibilities of Smog Check Stations Certified as Gold Shield” (operative August 1, 2007); 3392.3, “Eligibility for Gold Shield Certification; Quality Assurance” (operative May 28, 2003); 3392.4, “Gold Shield Guaranteed Repair (GSGR) Program Advertising Rights” (operative May 28, 2003); 3392.5, “Causes for Invalidation of Gold Shield Station Certification” (operative May 28, 2003); 3392.6, “Gold Shield Program Hearing and Determination” (operative May 28, 2003); Article 11 (Consumer Assistance Program), sections 3394.1, “Purpose and Components of the Consumer Assistance Program” (operative October 30, 2000); 3394.2, “Consumer Assistance Program Administration” (operative October 30, 2000); 3394.3, “State Assistance Limits” (operative October 30, 2000); 3394.4, “Eligibility Requirements” (operative August 12, 2008); 3394.5, “Ineligible Vehicles” (operative October 30, 2000); 3394.6, “Application and Documentation Requirements” (operative July 31, 2006).

(ii) Additional material.

(A) California Air Resources Board.

(1) Executive Order S-09-008, dated June 9, 2009, adopting the 2009 I/M Revision.

(2) Non-regulatory portion of the Revised State Implementation Plan for California's Motor Vehicle Inspection & Maintenance Program (April 7, 2009), excluding chapter 51.351 (except as it applies to the San Francisco Bay Area), chapter 51.352, and attachments 4 and 5.

(3) Health and Safety Code (2009): Division 26, Part 1, Chapter 2, section 39032.5; Part 5, Chapter 5 (Motor Vehicle Inspection Program), Articles 1-9.

(4) Business and Professions Code (2008): Division 3, Chapter 20.3 (Automotive Repair), Article 4, sections 9886, 9886.1, 9886.2, 9886.3, 9886.4.

(5) Vehicle Code (2009): Division 3, Chapter 1 (Original and Renewal of Registration; Issuance of Certificates of Title), Article 1, sections 4000.1, 4000.2, 4000.3, 4000.6.

(373) The following revisions to the California Motor Vehicle Inspection and Maintenance Program were submitted on October 28, 2009, by the Governor's Designee.

(i) [Reserved]

(ii) Additional material.

(A) California Air Resources Board.

(1) California I/M Program SIP Revision—Additional Enhanced I/M Performance Modeling, Tables of Results, excluding New Mobile 6 Input and Output Files and New Registration Distribution Files.

* * * * *

3. Section 52.241 is revised to read as follows:

§ 52.241 Inspection and maintenance program.

(a) [Reserved]

(b) Approval. On June 5, 2009, the California Air Resources Board submitted a revision to the California Motor Vehicle Inspection and Maintenance Program (2009 I/M Revision) to satisfy the requirements for basic and enhanced motor vehicle inspection and maintenance (I/M) in applicable ozone nonattainment areas. On October 28, 2009, the California Air Resources Board amended the 2009 I/M Revision to include revised enhanced performance program evaluations for six nonattainment areas. Approved elements of the 2009 I/M Revision, as amended on October 28, 2009, include a discussion of each of the required design elements of the I/M program; description of the current geographic coverage of the program; I/M-related statutes and regulations; enhanced I/M performance standard evaluations for the urbanized areas within six California ozone nonattainment areas (South Coast Air Basin, San Joaquin Valley, Sacramento Metro, Coachella Valley, Ventura County, and Western Mojave Desert); basic I/M performance standard evaluation for the urbanized area within the San Francisco Bay Area ozone nonattainment area; and emission analyzer specifications and test procedures, including BAR-97 specifications. The 2009 I/M Revision, as amended on October 28, 2009, meets the requirements of sections 182(a)(2)(B) and 182(c)(3) of the Clean Air Act, as amended in 1990, and 40 CFR part 51, subpart S and is approved as a revision to the California State Implementation Plan.

[FR Doc. 2010-16028 Filed 6-30-10; 8:45 am]

BILLING CODE 6560-50-P